DEPARTMENT OF HEALTH AND HUMAN SERVICES

Centers for Disease Control and Prevention

[Funding Opportunity Number: CE05-020]

Youth Violence Prevention Through Community-Level Change; Notice of Availability of Funds—Amendment

A notice announcing the availability of fiscal year (FY) 2005 funds for cooperative agreements to assess the efficacy or effectiveness of interventions designed to change community characteristics and social processes to reduce rates of youth violence perpetration and victimization was published in the Federal Register on December 30, 2004, Vol. 69, No. 250, pages 78419-78426.

The notice is amended as follows:

On page 78422, Column 2, Section IV.1. Address to Request Application Package, delete the first sentence and replace with “To apply for this funding opportunity, use application form PHS 398 (OMB number 0925-0001 rev. 9/2004).

Dated: January 28, 2005.
William P. Nichols,
Director, Procurement and Grants Office, Centers for Disease Control and Prevention.

[FR Doc. 05-2038 Filed 2-2-05; 8:45 am]

BILLING CODE 4163-18-P